POSTAL REGULATORY COMMISSION

[Docket No. CP2014-18; Order No. 1923]

New Postal Product

AGENCY: Postal Regulatory Commission.

ACTION: Notice.

SUMMARY: The Commission is noticing a recent Postal Service filing concerning an additional Global Expedited Package Services (GEPS) 3 negotiated service agreement. This notice informs the public of the filing, invites public comment, and takes other administrative steps.

DATES: Comments are due: December 30, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Background

III. Contents of Filing

IV. Commission Action

V. Ordering Paragraphs

I. Introduction

On December 20, 2013, the Postal Service filed Notice that it has entered into an additional Global Expedited Package Services (GEPS) 3 negotiated service agreement (Agreement).¹ The Postal Service seeks inclusion of the Agreement within the GEPS 3 product. Id. at 2.

¹ Notice of United States Postal Service of Filing a Functionally Equivalent Global Expedited Package Services 3 Negotiated Service Agreement and Application for Non-Public Treatment of Materials Filed Under Seal, December 20, 2013 (Notice).

II. Background

The Commission approved the addition of the GEPS Contracts product to the competitive product list following consideration of a Postal Service filing in Docket No. CP2008-5 based on Governors' Decision No. 08-7.² The Commission later added GEPS 3 to the competitive product list and authorized the agreement filed in Docket No. CP2010-71 to serve as the baseline agreement for comparison of potentially functionally equivalent agreements.³

² See Docket No. CP2008-5, Order No. 86, Order Concerning Global Expedited Package Services Contracts, June 27, 2008.

³ See Docket Nos. MC2010-28 and CP2010-71, Order No. 503, Order Approving Global Expedited Package Services 3 Negotiated Service Agreement, July 29, 2010.

Effective date; term. The Postal Service will notify its contracting partner of the effective date no later than 30 days after receiving approval from oversight entities. Notice, Attachment 1 at 7 (Article 12). The term of the Agreement is for one calendar year from the effective date or the last day of the month which falls one calendar year from the effective date, unless terminated sooner pursuant to contractual terms. Id.

III. Contents of Filing

The Notice includes a public Excel file consisting of financial workpapers and the following attachments:

• Attachment 1—a redacted copy of the Agreement;

• Attachment 2—a redacted copy of the certified statement required by 39 CFR 3015.5(c)(2);

• Attachment 3—a redacted copy of Governors' Decision No. 08-7, which establishes prices and classifications for GEPS Contracts; and

• Attachment 4—an application for non-public treatment of materials to be filed under seal.

Unredacted versions of Attachments 1 and 2 and the Excel file were also filed under seal. Notice at 2.

The Notice lists and summarizes differences between the Agreement and the baseline agreement. These include differences in two of the introductory paragraphs of the Agreement; revisions to numerous existing articles; and new, deleted, and renumbered articles. Id. at 4-7. The Postal Service states that these differences affect neither the fundamental service being offered under the Agreement nor the Agreement's fundamental structure, and that nothing detracts from the conclusion that the Agreement is “functionally equivalent in all pertinent respects” to the baseline agreement. Id. at 7. It therefore seeks the inclusion of the Agreement within the GEPS 3 product. Id.

IV. Commission Action

The Commission establishes Docket No. CP2014-18 for consideration of matters raised by the Notice. Interested persons may submit comments on whether the Postal Service's filing is consistent with 39 U.S.C. 3632, 3633, or 3642, 39 CFR part 3015, and subpart B of 39 CFR part 3020. Comments are due no later than December 30, 2013. The public portions of the Postal Service's filing can be accessed via the Commission's Web site, http://www.prc.gov. Information concerning access to non-public material is located in 39 CFR part 3007.

The Commission appoints Lyudmila Y. Bzhilyanskaya to serve as Public Representative in this proceeding.

V. Ordering Paragraphs

It is ordered:

1. The Commission establishes Docket No. CP2014-18 for consideration of the matters raised by the Postal Service's Notice.

2. Comments by interested persons in this proceeding are due no later than December 30, 2013.

3. Pursuant to 39 U.S.C. 505, the Commission appoints Lyudmila Y. Bzhilyanskaya to serve as an officer of the Commission (Public Representative) to represent the interests of the general public in this docket.

4. The Secretary shall arrange for publication of this order in the Federal Register.

By the Commission.
Shoshana M. Grove,
Secretary.

[FR Doc. 2013-31103 Filed 12-27-13; 8:45 am]

BILLING CODE 7710-FW-P